Title 3—

The President

Proclamation 7323 of June 16, 2000

Father's Day, 2000

By the President of the United States of America

A Proclamation

Each year, Americans set aside the third Sunday in June to pay special tribute to our fathers, who for many of us are the first and most important men in our lives. The role of father is a unique blessing and a profound responsibility, one at the very heart of our Nation's families and communities. When we are young, our father's nurturing brings us comfort and security. As we grow, our dads are our teachers and coaches—whether we are learning to read or to play a sport—and they instill in us cherished values of honor, courage, hard work, and respect for others. Later, as adults, we look to our fathers for advice and friendship. On all the paths of life, our fathers encourage us when we hesitate, support us when we falter, and cheer us when we succeed.

American fathers today must balance the demands of work and family. As our growing economy has helped America's families meet their financial needs, the pressure to maintain that balance has increased. For the health of our families, it is important that fathers have the time, the support, and the parenting skills necessary to fulfill their children's moral and emotional needs as well as provide for their physical well-being. Throughout our Administration, Vice President Gore and I have encouraged fathers to take an active and responsible role in their children's lives. This year, in recognition of Father's Day, I am directing the Department of Health and Human Services, along with certain other Federal agencies, to develop guidance for State and local governments, community providers, and families on Federal resources that are available to promote responsible fatherhood.

On this first Father's Day of the 21st century, let us honor our fathers, both living and deceased, for believing in our dreams and helping us to achieve them. Throughout the year, let us continue to reflect on the importance of fathers—whether biological, foster, adoptive, or stepfathers—as role models in our lives. And let us express our gratitude for the many gifts they bring to our lives by passing on their legacy of love and caring to our own children.

NOW, THEREFORE, I, WILLIAM J. CLINTON, President of the United States of America, in accordance with a joint resolution of the Congress approved April 24, 1972 (36 U.S.C. 142a), do hereby proclaim Sunday, June 18, 2000, as Father's Day. I invite the States, communities across our country, and all the citizens of the United States to observe this day with appropriate ceremonies and activities that demonstrate our deep appreciation and abiding love for our fathers.

IN WITNESS WHEREOF, I have hereunto set my hand this sixteenth day of June, in the year of our Lord two thousand, and of the Independence of the United States of America the two hundred and twenty-fourth.

wj

[FR Doc. 00-15861

Filed 6-20-00; 8:45 am]

Billing code 3195-01-P